DEPARTMENT OF COMMERCE

National Oceanic and Atmospheric Administration

RIN 0648-XY96

Mid-Atlantic Fishery Management Council; Public Meeting

AGENCY: National Marine Fisheries Service (NMFS), National Oceanic and Atmospheric Administration (NOAA), Commerce.

ACTION: Notice of public meeting.

SUMMARY: The Mid-Atlantic Fishery Management Council's (MAFMC) Scientific and Statistical Committee (SSC) will hold a public meeting.

DATES: The meeting will be held on Tuesday, September 21, 2010, from 9 a.m. to 5 p.m. and Wednesday, September 22, 2010, from 8:30 a.m. to 5 p.m.

ADDRESSES: The meeting will be held at the Sheraton Four Points, 7032 Elm Road, Baltimore, MD 21240; telephone: (410) 859-3300.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: Agenda items to be discussed at the SSC meeting include: (1) new SSC member orientation; (2) review stock assessment information and specify overfishing level and acceptable biological catch for spiny dogfish for fishing years 2011-15; review and comment on proposed quota specifications and management measures for spiny dogfish for fishing years 2011-15; (3) progress report on Management Strategy Evaluation study; (4) review and comment on Council five year research plan; (5) discuss results of August 12-13, 2010 ACL Workshop and planned follow-up joint workshop with NEFSC and New England Fishery Management Council's SSC; (6) develop recommendations for stock assessment schedule; (7) set 2011 SSC schedule; (8) discuss development of Industry Advisory Panel Reports; and (9) discuss formation of SSC Ecosystem Subcommittee and development of ecosystem terms of reference for the Council.

To correct an administrative error in providing timely notice of this meeting, the Mid-Atlantic Council will conduct a webinar to allow public comment on any decisions made at this meeting and allow the SSC to ratify those decisions. Notice of the webinar will be published in the Federal Register.

Special Accommodations

The meeting is physically accessible to people with disabilities. Requests for sign language interpretation or other auxiliary aids should be directed to M. Jan Saunders at the Mid-Atlantic Council Office, (302) 526-5251, at least 5 days prior to the meeting date.

Dated: September 9, 2010.
Tracey L. Thompson,
Acting Director, Office of Sustainable Fisheries, National Marine Fisheries Service.

[FR Doc. 2010-22866 Filed 9-13-10; 8:45 am]

BILLING CODE 3510-22-S